DEPARTMENT OF DEFENSE

Defense Logistics Agency

Membership of the Defense Logistics Agency (DLA) Senior Executive Service (SES) Performance Review Board (PRB)

AGENCY: Defense Logistics Agency, Department of Defense.

ACTION: Notice of membership—2006 DLA PRB.

SUMMARY: This notice announces the appointment of members to the Defense Logistics Agency Senior Executive Service (SES) Performance Review Board (PRB). The publication of PRB composition is required by 5 U.S.C. 4314(c)(4). The PRB provides fair and impartial review of Senior Executive Service performance appraisals and makes recommendations to the Director, Defense Logistics Agency, with respect to pay level adjustments and performance awards, and other actions related to management of the SES cadre.

DATES: Effective Date: September 26, 2006.

ADDRESSES: Defense Logistics Agency, 8725 John J. Kingman Road, STE 2533, Fort Belvoir, Virginia, 22060-6221.

FOR FURTHER INFORMATION CONTACT: Ms. Laurie Hall, SES Program Manager, Human Resources (J-1), Defense Logistics Agency, Department of Defense, (703) 767-6404.

SUPPLEMENTARY INFORMATION: In accordance with 5 U.S.C. 4314(c)(4), the following are the names and titles of DLA career executives appointed to serve as members of the SES PRB. Members will serve a 1-year term, which beings on September 26, 2006.

PRB Chair: Major General Loren M. Reno, USAF.

Members: Mr. Jeffrey Neal, Director, Human Resources, Ms. Mae De Vincentis, Director, Information Operations/CFO, Mr. Richard Connelly, Director, Defense Energy Support Center.

Robert T. Dail,
Lieutenant General, USA, Director, Defense Logistics Agency.

[FR Doc. 06-8661 Filed 10-12-06; 8:45 am]

BILLING CODE 3620-01-M